DEPARTMENT OF ENERGY

Federal Energy Regulatory Commission

18 CFR Parts 366, 367, 368, 369 and 375

[Docket No. RM06-11-000]

Financial Accounting, Reporting and Records Retention Requirements Under the Public Utility Holding Company Act of 2005

Issued June 30, 2006.

AGENCY: Federal Energy Regulatory Commission.

ACTION: Notice of Proposed Rulemaking: Notice of agenda, panelists and questions for July 18, 2006 Technical Conference.

SUMMARY: On April 21, 2006, the Federal Energy Regulatory Commission issued a Notice of Proposed Rulemaking in the above-docketed proceeding concerning Financial Accounting, Reporting and Records Retention Requirements Under the Public Utility Holding Company Act of 2005, 71 FR 28464, May 16, 2006. The Commission is convening a technical conference on July 18, 2006, to identify issues associated with the proposed Uniform System of Accounts for Centralized Service Companies, the proposed records retention requirements for holding companies and service companies, and the Revised Form 60. By this notice, the Commission is providing the agenda, panelists and a list of questions that will be addressed by the panelists at this conference.

DATES: Conference will be held on July 18, 2006.

FOR FURTHER INFORMATION CONTACT: Julia A. Lake (Legal Information), Office of the General Counsel—Energy Markets, Federal Energy Regulatory Commission, 888 First Street, NE., Washington, DC 20426. Telephone: (202) 502-8370. E-mail: julia.lake@ferc.gov.

SUPPLEMENTARY INFORMATION:

Notice of Agenda, Panelists and Questions

As announced on April 21 and June 16, 2006, the Federal Energy Regulatory Commission (Commission) will hold a technical conference and workshop in the above-referenced proceeding on July 18, 2006, in the Commission Meeting Room. The meeting will begin at 9 a.m. (Eastern Daylight Savings Time) and conclude at approximately 1:30 p.m. All interested persons are invited to attend. There is no registration fee to attend this conference.

Nine comments were filed in response to the proposed Uniform System of Accounts for Centralized Service Companies, the proposed records retention requirements for holding companies and service companies, and the revised FERC Form No. 60.¹ These comments raise a number of issues. We request that the panel members address the following issues raised by commentors:

¹ Financial Accounting, Reporting and Records Retention Requirements under the Public Utility Holding Company Act of 2005, Notice of Proposed Rulemaking, 71 FR 28464 (May 16, 2006), FERC Statutes and Regulations ¶ 32,600 (2006).

1. Is a separate Uniform System of Accounts necessary for service companies?

2. Are the proposed accounting and reports too burdensome to comply with? What parts cause the most burden?

3. Should a structured reporting format be required for service companies?

4. If a separate Uniform System of Accounts and structured reports are adopted, what are the most significant modifications to what was proposed in the NOPR that should be considered?

5. What should the effective date be for the new requirements?

Transcripts of the meeting will be available immediately for a fee from Ace Reporting Company ((202) 347-3700 or 1-(800) 336-6646). They will be available for free on the Commission's eLibrary system and on the events calendar about two weeks after the conference. There will be open microphones for conference attendees to present their questions to the panelists and Commission staff.

FERC conferences and meetings are accessible under section 508 of the Rehabilitation Act of 1973. For accessibility accommodations, please send an e-mail to accessibility@ferc.gov or call toll free (866) 208-3372 (voice) or (202) 502-8659 (TTY), or send a fax to (202) 208-2106 with the required accommodations.

Attached is the agenda, including the panelists who will speak at the conference.

Questions about the conference should be directed to: Julia A. Lake, Office of the General Counsel, Federal Energy Regulatory Commission, 888 First Street, NE., Washington, DC 20426. (202) 502-8370. Julia.lake@ferc.gov.

Magalie R. Salas,
Secretary.

Agenda for Financial Accounting, Reporting and Records Retention Requirements Under PUHCA 2005 Technical Conference—July 18, 2006

9-9:10 a.m. Introductory Remarks by Susan Court, Director, Office of Enforcement (OE).

9:10-9:20 a.m. Overview by Janice Garrison Nicholas, Director, Division of Financial Regulation, Office of Enforcement.

9:15-11 a.m. Association and Industry Panel.

Panelists:

—Henri Bartholomot—Director, Regulatory Legal Issues, Edison Electric Institute.

—David Stringfellow—Director of Accounting, Edison Electric Institute.

—Kathleen McNulty-Kropp—Manager, Regulatory Accounting Policy and Reporting, Xcel Energy Inc. for Edison Electric Institute-William Richert—Assistant Controller, National Grid USA.

—Sandra Bennett—Assistant Controller, American Electric Power, Inc.

—Beverly M. Holmes—Director of Accounting, Southern Company Services, Inc.

11-11:15 a.m. Break.

11:15 a.m.-1 p.m. State Commissions and Other Interest Groups Panel.

Panelists:

—Thomas J. Ferris—Audit Manager-Consultant, Gas and Energy Division, Public Service Commission of Wisconsin.

—Joseph Buckley—Utility Specialist, Public Utilities Commission of Ohio.

—James Mitchell—Supervisor, Utility, Accounting and Finance, New York State Public Service Commission.

—Steven Ruppel—Contract Compliance Audit Manager, Florida Municipal Power Agency.

1-1:15 p.m. Wrap up Questions and Answers.

1:15-1:30 p.m. Concluding Remarks.

[FR Doc. E6-11001 Filed 7-12-06; 8:45 am]

BILLING CODE 6717-01-P